DEPARTMENT OF HEALTH AND HUMAN SERVICES

Administration for Children and Families

[OMB No. 0970-0554]

Submission for Office of Management and Budget (OMB) Review; Placement and Transfer of Unaccompanied Children Into Office of Refugee Resettlement Care Provider Facilities

AGENCY: Office of Refugee Resettlement, Administration for Children and Families, U.S. Department of Health and Human Services.

ACTION: Request for public comments.

SUMMARY: The Office of Refugee Resettlement (ORR), Administration for Children and Families (ACF), U.S. Department of Health and Human Services (HHS), is inviting public comments on the proposed information collection. This request is to extend approval of all forms currently approved under OMB #: 0970-0554. This includes two forms that were recently approved through emergency approval in October 2022. These forms expand specific policy and procedural protections to category 2 sponsors, children who wish to challenge placement in restrictive settings, and children seeking access to legal counsel. This request also seeks approval for revisions to a form that will ensure that UC are placed in foster homes that meet their individual needs and ensure continuity of services.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing infocollection@acf.hhs.gov. Identify all emailed requests by the title of the information collection.

SUPPLEMENTARY INFORMATION:

Description: ORR is seeking to continue data collection for the with all forms approved under OMB #: 0970-0554, including the below-described revisions that were recently approved under emergency approval for six months, additional revisions to Form P-4, and revisions currently requested to Form P-5.

Revisions Approved Under Emergency Approval

ORR added a new instrument titled Notice of Administrative Review (Form P-18) that serves as written notice of receipt of a Placement Review Panel request and provides the UC with information on next steps to take when requesting a review and reconsideration of the UC's placement in a restrictive setting. The notice also requests that the UC and/or their representative provide a written statement and decision on whether they are requesting a hearing. If a hearing is requested, the UC and/or their representative are also asked to provide:

• The name, email address, and telephone number for the UC's attorney or child advocate.

• The UC's preferred language.

• Whether the UC will need an interpreter (of if the UC's representative will provide an interpreter).

• The names and email addresses for the witnesses the UC or their representative plan to call at the hearing.

• Whether the UC has any special needs.

Additionally, ORR made the below-listed revisions to the Notice of Placement in a Restrictive Setting (Form P-4). Many of the new fields in this form are also contained in the 30-Day Restrictive Placement Case Review (Form S-16), which is approved under OMB #0970-0553. The below revisions effectively merge Forms P-4 and S-16 into one form. ORR plans to submit a nonsubstantive change request to discontinue Form S-16 soon.

• Reorganized the form into six main sections—UC Information, ORR's Determinations Related to Safety, Reasons for Restrictive Placement, Summary of Supporting Evidence for Restrictive Placement, Your Rights to Challenge Your Placement, and UC's Acknowledgement of Receipt.

• Added the following fields under the UC Information section:

○ Preferred Language.

○ Out-of-Network Facility Name.

○ If applicable, explain the reasons that the UC is placed in an out-of-network facility.

○ Date of Placement at Current Restrictive Facility.

○ Date of Initial Notice of Placement.

○ Date Next Notice of Placement is Due (within 30 days).

• Created the ORR's Determinations Related to Safety section and added the following checkboxes:

○ UC presents a danger to self or community.

○ UC poses a risk of escape.

• Revised the Reasons for Restrictive Placement section as follows:

○ Under Secure Facility:

Removed checkbox “Have committed, threatened to commit, or engaged in serious, self-harming behavior that poses a danger to self while in ORR custody.”

Revised the checkbox “Have a history of or display sexual predatory behavior, or have inappropriate sexual behavior.” to instead read “Have committed sexual abuse, where there is coercion by overt or implied threats of violence against another person and/or there is an immediate danger to others.”

Added checkbox “Are pending transfer of discharge/release to:”

○ Under Residential Treatment Center:

Added checkbox “Are pending transfer of discharge/release to:”

○ Under Staff Secure Facility:

Replaced checkbox “Could be stepped down from a secure facility” with “Are pending transfer of discharge/release to:”

• Under Summary of Supporting Evidence for Restrictive Placement:

○ Split text box into three separate text boxes, one each for the case manager, case coordinator, and federal field specialist.

○ Added fields for case manager, case coordinator, and federal field specialist names and their overall recommendations.

• Added additional information on how a UC may request to change their placement in a restrictive setting under the Your Rights to Challenge Your Placement section.

• Added a field for the name and title of the care provider/issuing official.

• Added fields for the language used to explain the form to the UC, the name of the person who explained the form, and their interpreter ID#, if applicable.

Currently Proposed Revisions

ORR is proposing the following additional revision to the Notice of Placement in a Restrictive Setting (Form P-4):

• Replace the abbreviation UC with “unaccompanied child” or “child” throughout the form.

• Under Section C, rephrase instructions to read “Check all reasons that apply for the current placement recommendation only” (instead of “For each type of placement, check all reasons that apply for that placement only”).

• Under Section D, remove phrase “specific incidents related to” from “Provide a detailed summary of specific incidents related to the reason(s) for restrictive placement you selected above” to avoid any accidental conflation with Significant Incident Report (SIR) forms.

• Under Section E, clarify that the right to consult an attorney is at no cost to the federal government, as stated in the Lucas R. Preliminary Injunction.

• Under Section F, clarify that there is no positive or negative inference from a child's decision not to sign the form.

ORR is proposing the following revisions to its Long-Term Foster Care Placement Memo (Form P-5):

• Change the title to “Community-Based Care Placement Memo” and update the term “long-term foster care” to “community-based care” throughout the memo. This term is more in line with terminology currently used in domestic child welfare programs and will be inclusive of ORR long-term foster care and transitional foster care programs.

• Increase the number of respondents and number of responses per respondent to include transitional foster care programs (in addition to long-term foster care programs).

• Update instructions on which fields are completed for initial placements and which are completed for transfers within the community-based care program.

• Added citation to related policies in the instructions.

• Reword some fields and instructions for clarity.

• Add field to capture the facility name for children placed in an out-of-network community-based care program.

• Separate fields that capture contact information for the foster family or group home into separate subsections and expand the fields to capture additional contact information (e.g., phone or email) in addition to name and address.

For information about all currently approved forms under this OMB number, see: https://www.reginfo.gov/public/do/PRAViewICR?ref_nbr=202210-0970-008.

Respondents: ORR grantee and contractor staff; UC; and other Federal agencies.

Annual Burden Estimates

Note: These burden estimates include burden related to the revisions described above and currently approved forms for which we are not proposing any changes.

Estimated Burden Hours for Respondents
Information collection title | Annual number of respondents | Annual number of responses per respondent | Average burden hours per response | Annual total burden hours
Placement Authorization (Form P-1) | 262 | 536 | 0.08 | 11,235
Authorization for Medical, Dental, and Mental Health Care (Form P-2) | 262 | 536 | 0.08 | 11,235
Notice of Placement in a Restrictive Setting (Form P-4) | 15 | 114 | 0.33 | 564
Community-Based Care Placement Memo (Form P-5) | 110 | 337 | 0.25 | 9,268
UC Referral (Form P-7) | 25 | 4,909 | 1.00 | 122,725
Care Provider Checklist for Transfers to Influx Care Facilities (Form P-8) | 262 | 19 | 0.25 | 1,245
Medical Checklist for Transfers (Form P-9A) | 262 | 49 | 0.08 | 1,027
Medical Checklist for Influx Transfers (Form P-9B) | 262 | 96 | 0.17 | 4,276
Transfer Request (Form P-10A) | 262 | 67 | 0.42 | 7,373
Transfer Request (Form P-10A) | 275 | 67 | 0.33 | 6,080
Influx Transfer Request (Form P-10B) | 262 | 96 | 0.42 | 10,564
Transfer Summary and Tracking (Form P-11) | 262 | 67 | 0.17 | 2,984
Program Entity (Form P-12) | 262 | 12 | 0.50 | 1,572
UC Profile (Form P-13) | 262 | 468 | 0.75 | 91,962
ORR Transfer Notification—ORR Notification to Immigration and Customs Enforcement Chief Counsel of Transfer of UC and Request to Change Address/Venue (Form P-14) | 262 | 67 | 0.17 | 2,984
Family Group Entity (Form P-15) | 25 | 120 | 0.08 | 240
Influx Transfer Manifest (Form P-16) | 3 | 12 | 0.33 | 12
Influx Transfer Manual and Prescreen Criteria Review (Form P-17) | 262 | 56,213 | 0.50 | 7,363,903
Notice of Administrative Review (Form P-18) | 200 | 1 | 0.83 | 166
Estimated Annual Burden Hours Total |  |  |  | 7,649,415

Authority: 6 U.S.C. 279; 8 U.S.C. 1232; Flores v. Reno Settlement Agreement, No. CV85-4544-RJK (C.D. Cal. 1996); 45 CFR part 411; Lucas R. et al. v. Azar et al. (Case No. CV 18-5741-DMG (PLAx)) Preliminary Injunction.

Mary B. Jones,
ACF/OPRE Certifying Officer.

[FR Doc. 2023-09048 Filed 4-27-23; 8:45 am]

BILLING CODE 4184-45-P